DEPARTMENT OF EDUCATION

Applications for New Awards; Language Resource Centers Program

AGENCY: Office of Postsecondary Education, Department of Education.

ACTION: Notice.

SUMMARY: The Department of Education is issuing a notice inviting applications for fiscal year (FY) 2018 for the Language Resource Centers (LRC) Program, Catalog of Federal Domestic Assistance (CFDA) number 84.229A.

DATES:

Applications Available: May 24, 2018.

Deadline for Transmittal of Applications: June 25, 2018.

Deadline for Intergovernmental Review: August 22, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Carolyn Collins, U.S. Department of Education, 400 Maryland Avenue SW, Room 258-40, Washington, DC 20202. Telephone: (202) 453-7854. Email: carolyn.collins@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Language Resource Centers (LRC) Program provides grants to institutions of higher education (IHEs) or consortia of IHEs for establishing, strengthening, and operating centers that serve as resources for improving the Nation's capacity for teaching and learning foreign languages through teacher training, research, materials development, assessment, and dissemination projects.

Priorities: This notice includes two competitive preference priorities. In accordance with 34 CFR 75.105(b)(2)(ii), Competitive Preference Priority 1 is from 34 CFR 669.22(a)(2). Competitive Preference Priority 2 is from the notice of final priorities for this program published in the Federal Register on June 6, 2014 (79 FR 32651) (the NFP).

Competitive Preference Priorities: For FY 2018 and any subsequent year in which we make awards from the list of unfunded applications from this competition, these priorities are competitive preference priorities. Under 34 CFR 75.105(c)(2)(i), we award up to an additional five points depending on how well the application meets Competitive Preference Priority 1, and up to an additional five points depending on how well the application meets Competitive Preference Priority 2. An applicant may receive a total of up to 10 additional points under the competitive preference priorities.

These priorities are:

Competitive Preference Priority 1: Applications that Propose Activities with a Significant Focus on Less Commonly Taught Languages (LCTLs) (up to 5 points).

Background: Under 34 CFR 669.22(a)(2), the Department may establish a priority for specific foreign languages for study or materials development. For Competitive Preference Priority 1, we took into consideration the findings in the recent Modern Language Association of America (MLA) survey ¹ of fall 2016 undergraduate and graduate enrollments in language courses at 2,547 postsecondary institutions in the United States. Of 1,417,921 total enrollments, the three most-studied modern foreign languages included Spanish with 712,240 enrollments or 50 percent; French with 175,667 enrollments or 12 percent; and German with 80,594 enrollments or 6 percent. Together, these three languages represented 968,501 or 68 percent of enrollments. Other languages, with 34,830 enrollments, constituted 25 percent of enrollments for the same period.

¹ Modern Language Association of America, “Enrollments in Languages Other Than English in United States Institutions of Higher Education, Summer 2016 and Fall 2016: Preliminary Report” (February, 2018) (p 13).

The findings in the MLA survey are consistent with the definition of “Less Commonly Taught Languages” used by the Center for Advanced Research on Language Acquisition (CARLA).² CARLA defines LCTLs as “all of the world's languages except English, French, German, and Spanish.”

² Center for Advanced Research on Language Acquisition, University of Minnesota. www.carla.umn.edu.

Priority: Applications that propose activities with a significant focus on the teaching and learning of any modern foreign languages except French, German, and Spanish.

Competitive Preference Priority 2: Collaboration with Minority-Serving Institutions (MSIs) or community colleges (up to 5 points).

Applications that propose significant and sustained collaborative activities with one or more Minority-Serving Institutions (MSIs) (as defined in this notice) and/or with one or more community colleges (as defined in this notice).

These activities must be designed to incorporate foreign languages into the curriculum at the MSI(s) or community college(s), and to improve foreign language instruction at the MSI(s) or community college(s). If an applicant institution is an MSI or a community college (as defined in this notice), that institution can meet the intent of this priority by proposing intra-campus collaborative activities instead of, or in addition to, collaborative activities with other MSIs and/or community colleges. For the purpose of this priority:

Community college means an institution that meets the definition in section 312(f) of the Higher Education Act of 1965, as amended (HEA) (20 U.S.C. 1058(f)); or an institution of higher education (as defined in section 101 of the HEA (20 U.S.C. 1001)) that awards degrees and certificates, more than 50 percent of which are not bachelor's degrees (or an equivalent) or master's, professional, or other advanced degrees.

Minority-Serving Institution (MSI) means an institution that is eligible to receive assistance under sections 316 through 320 of part A of title III, under part B of title III, or under title V of the HEA.

Note: The institutions designated eligible under title III and title V may be viewed at: www2.ed.gov/about/offices/list/ope/idues/eligibility.html.

Program Authority: 20 U.S.C. 1123.

Applicable Regulations: (a) The Education Department General Administrative Regulations in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) 34 CFR parts 655 and 669. (e) The NFP.

Note: The regulations in 34 CFR part 86 apply to IHEs only.

Areas of National Need: In accordance with section 601(c) of the HEA, 20 U.S.C. 1121(c), the Secretary consulted with a wide range of Federal agencies and received recommendations regarding national need for expertise in foreign language and world regions. These agencies' recommendations may be viewed at: www2.ed.gov/about/offices/list/ope/iegps/index.html.

II. Award Information

Type of Award: Discretionary grants.

Estimated Available Funds: $2,746,768.

Contingent upon the availability of funds and the quality of applications, we may make additional awards in FY 2019 from the list of unfunded applications from this competition.

Estimated Range of Awards: $130,000-$197,000 per year.

Estimated Average Size of Awards: $171,000 per year.

Estimated Number of Awards: 16.

Note: The Department is not bound by any estimates in this notice. The estimated range and average size of awards are based on a single 12-month budget period.

Project Period: Up to 48 months.

III. Eligibility Information

1. Eligible Applicants: IHEs or consortia of IHEs.

2. Cost Sharing or Matching: This program does not require cost sharing or matching.

3. Subgrantees: Under 34 CFR 75.708(b) and (c), a grantee under this competition may award subgrants—to directly carry out project activities described in its application—to the following types of entities: IHEs, non-profit organizations, professional organizations, or businesses. The grantee may award subgrants to entities it has identified in an approved application or that it selects through competition under procedures established by the grantee.

4. Other: (a) Reasonable and Necessary Costs: Applicants must ensure that all costs included in the proposed budget are reasonable and necessary to meet the goals and objectives of the proposed project. Any costs determined by the Secretary to be unreasonable or unnecessary will be removed from the final approved budget.

(b) Audits: (i) A non-Federal entity that expends $750,000 or more during the non-Federal entity's fiscal year in Federal awards must have a single or program-specific audit conducted for that year in accordance with the provisions of 2 CFR part 200. (2 CFR 200.501(a))

(ii) A non-Federal entity that expends less than $750,000 during the non-Federal entity's fiscal year in Federal awards is exempt from Federal audit requirements for that year, except as noted in 2 CFR 200.503 (Relation to Other Audit Requirements), but records must be available for review or audit by appropriate officials of the Federal agency, pass-through entity, and Government Accountability Office (GAO). (2 CFR 200.501(d)).

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is subject to Executive Order 12372 and the regulations in 34 CFR part 79. Information about Intergovernmental Review of Federal Programs under Executive Order 12372 is in the application package for this program.

3. Funding Restrictions: We specify unallowable costs in 34 CFR 669.30. We reference additional regulations outlining funding restrictions in the Applicable Regulations section of this notice.

4. Recommended Page Limit: The application narrative (Part III of the application) is where you, the applicant, address the priorities, selection criteria, and application requirements that reviewers use to evaluate your application. We recommend that you (1) limit the application narrative to no more than 50 pages and (2) use the following standards:

• A “page” is 8.5″ × 11″, on one side only, with 1″ margins at the top, bottom, and both sides.

• Double space (no more than three lines per vertical inch) all text in the application narrative, except titles, headings, footnotes, quotations, references, and captions. Charts, tables, figures, and graphs in the application narrative may be single spaced and will count toward the recommended page limit.

• Use a font that is either 12 point or larger or no smaller than 10 pitch (characters per inch). However, you may use a 10 point font in charts, tables, figures, and graphs.

• Use one of the following fonts: Times New Roman, Courier, Courier New, or Arial.

The recommended page limit does not apply to Part I, the Application for Federal Assistance face sheet (SF 424); the supplemental SF 424 form; Part II, Budget Information—Non-Construction Programs (ED 524); Part IV, the assurances, certifications, and the response to section 427 of the General Education Provisions Act; the table of contents; the one-page project abstract; the appendices; or the line item budget. However, the recommended page limit does apply to all of the application narrative section.

5. Award Basis: In determining whether to approve a grant award and the amount of such award, the Department will take into consideration, among other things, the applicant's performance and use of funds under a previous or existing award under any Department program (34 CFR 75.217(d)(3)(ii) and 75.233(b)). In assessing the applicant's performance and use of funds under a previous or existing award, the Secretary will consider, among other things, the outcomes the applicant has achieved and the results of any Departmental grant monitoring, including the applicant's progress in remedying any deficiencies identified in such monitoring.

V. Application Review Information

1. Selection Criteria: The selection criteria for this program are from 34 CFR 655.31 and 669.21, and are as follows. The maximum possible total score an application can receive for addressing the criteria is 100 points.

(a) Plan of Operation (up to 15 points).

The Secretary reviews each application for information that shows the quality of the plan of operation for the project.

The Secretary looks for information that shows—

(1) High quality in the design of the project;

(2) An effective plan of management that ensures proper and efficient administration of the project;

(3) A clear description of how the objectives of the project relate to the purpose of the program;

(4) The way the applicant plans to use its resources and personnel to achieve each objective; and

(5) A clear description of how the applicant will provide equal access and treatment for eligible project participants who are members of groups that have been traditionally underrepresented, such as—

(i) Members of racial or ethnic minority groups;

(ii) Women; and

(iii) Handicapped persons.

(b) Quality of Key Personnel (up to 10 points).

The Secretary reviews each application for information that shows the quality of the key personnel the applicant plans to use on the project.

(1) The Secretary looks for information that shows—

(a) The qualifications of the project director (if one is to be used);

(b) The qualifications of each of the other key personnel to be used in the project. In the case of faculty, the qualifications of the faculty and the degree to which that faculty is directly involved in the actual teaching and supervision of students; and

(c) The time that each person referred to in paragraphs (b)(1)(a) and (b) of this section plans to commit to the project; and

(d) The extent to which the applicant, as part of its nondiscriminatory employment practices, encourages applications for employment from persons who are members of groups that have been traditionally underrepresented, such as members of racial or ethnic minority groups, women, handicapped persons, and the elderly.

(2) To determine the qualifications of a person, the Secretary considers evidence of past experience and training, in fields related to the objectives of the project, as well as other information that the applicant provides.

(c) Budget and Cost-Effectiveness (up to 10 points).

The Secretary reviews each application for information that shows that the project has an adequate budget and is cost effective.

The Secretary looks for information that shows—

(1) The budget for the project is adequate to support the project activities; and

(2) Costs are reasonable in relation to the objectives of the project.

(d) Evaluation Plan (up to 20 points).

The Secretary reviews each application for information that shows the quality of the evaluation plan for the project.

The Secretary looks for information that shows methods of evaluation that are appropriate for the project and, to the extent possible, are objective and produce data that are quantifiable.

(e) Adequacy of Resources (up to 5 points).

The Secretary reviews each application for information that shows that the applicant plans to devote adequate resources to the project.

The Secretary looks for information that shows—

(1) Other than library, facilities that the applicant plans to use are adequate (language laboratory, museums, etc.); and

(2) The equipment and supplies that the applicant plans to use are adequate.

(f) Need and Potential Impact (up to 20 points).

The Secretary reviews each application to determine—

(1) The extent to which the proposed materials or activities are needed in the foreign languages on which the project focuses;

(2) The extent to which the proposed materials may be used throughout the United States; and

(3) The extent to which the proposed work or activity may contribute significantly to strengthening, expanding, or improving programs of foreign language study in the United States.

(g) Likelihood of Achieving Results (up to 10 points).

The Secretary reviews each application to determine—

(1) The quality of the outlined methods and procedures for preparing the materials; and

(2) The extent to which plans for carrying out activities are practicable and can be expected to produce the anticipated results.

(h) Description of Final Form of Results (up to 10 points).

The Secretary reviews each application to determine the degree of specificity and the appropriateness of the description of the expected results from the project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170.110(b).

(b) At the end of your project period, you must submit a final performance report, including financial information, as directed by the Secretary. If you receive a multi-year award, you must submit an annual performance report that provides the most current performance and financial expenditure information as specified by the Secretary in 34 CFR 75.118. The Secretary may also require more frequent performance reports under 34 CFR 75.720(c). For specific requirements on reporting, please go to www.ed.gov/fund/grant/apply/appforms/appforms.html.

Performance reports for the LRC Program must be submitted electronically into the office of International and Foreign Language (IFLE) web-based reporting system, International Resource Information System (IRIS). For information about IRIS and to view the reporting instructions, please go to www.ed.gov/fund/grant/apply/appforms/appforms.html.

(c) Under 34 CFR 75.250(b), the Secretary may provide a grantee with additional funding for data collection analysis and reporting. If a grantee is provided additional funding for this purpose, the Secretary establishes a data collection period.

5. Performance Measures: Under the Government Performance and Results Act of 1993, the following measures will be used to evaluate the success of the LRC Program:

(a) Percentage of LRC products or activities judged to be successful by LRC customers with respect to quality, usefulness and relevance.

(b) Percentage of LRC products judged to be successful by an independent expert review panel with respect to quality, usefulness and relevance.

(c) Cost per LRC project that increased the number of training programs for K-16 instructors of LCTLs (efficiency measure).

The information provided by grantees in their performance reports submitted via the IRIS reporting system will be the source of data for these measures. Reporting screens for institutions can be viewed at: http://iris.ed.gov/iris/pdfs/LRC.pdf.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: May 21, 2018.
Frank T. Brogan,
Principal Deputy Assistant Secretary and Delegated the Duties of Assistant Secretary, Office of Planning, Evaluation, and Policy Development, Delegated the Duties of the Assistant Secretary, Office of Postsecondary Education.

[FR Doc. 2018-11187 Filed 5-23-18; 8:45 am]

BILLING CODE 4000-01-P